DEPARTMENT OF AGRICULTURE

Forest Service

Colville Resource Advisory Committee

AGENCY: Forest Service, USDA.

ACTION: Notice of meeting.

SUMMARY: The Colville Resource Advisory Committee (RAC) will meet on Wednesday, September 4, 2002 at the Spokane Community College, Colville Campus, Dominion Room at 985 S. Elm Street, Colville, Washington. The meeting will begin at 9 a.m. and conclude at 4 p.m.

Agenda items include: (1) review, modify and approve minutes from March meeting; (2) review and recommend Title II Projects for Fiscal Year 2003 to be submitted to the forest designated official; (3) review the updated Title II Submittal Form; (4) develop agenda for next meeting and (5) Public Forum.

FOR FURTHER INFORMATION CONTACT: Please direct questions regarding this meeting to designated federal official, Nora Rasure or Cynthia Reichelt, Public Affairs Officer, Colville National Forest, 765 S. Main, Colville, Washington 99114, (509) 684-7000.

Dated: August 14, 2002.
Nora B. Rasure,
Forest Supervisor.

[FR Doc. 02-21079 Filed 8-19-02; 8:45 am]

BILLING CODE 3410-11-M